DEPARTMENT OF AGRICULTURE

Forest Service

Slide Ridge Timber Sale Environmental Impact Statement

AGENCY: Forest Service, USDA.

ACTION: Notice of intent to prepare an environmental impact statement.

SUMMARY: The Department of Agriculture, Forest Service, will prepare an Environmental Impact Statement (EIS) on a proposal to harvest timber in the Slide Ridge Timber Sale project area, Ketchikan-Misty Fiords Ranger District, Tongass National Forest. The proposed action includes a sale plan to harvest 4-5 million board feet (MMBF) or approximately 40% of the standing timber from 300 acres of National Forest System lands in the Whipple Creek drainage. No new roads would be built and approximately 6 miles of existing road would be reconstructed to facilitate helicopter yarding. The purpose and need of the timber sale is to contribute to the production of a sustained yield of timber and mix of other resource activities from the Tongass National Forest, consistent with Forest Plan Standards and Guidelines. A range of alternatives responsive to key issues will be developed. The range of alternatives will include the no-action alternative and an alternative that proposes up to 3 miles of new road construction to facilitate both helicopter and conventional yarding. The Tongass Forest Supervisor will decide on whether or not to harvest timber from this area, and if so, how this timber would be harvested. The decision will be based on the information disclosed in the EIS and the goals, objectives and desired future conditions as stated in the Forest Plan.

DATES: Opportunities for comment are available throughout the process. Individuals interested in receiving a scoping package should contact us within 30 days of the publication of this NOI. Additional opportunities for comment will be provided following development of a specific agency proposed action, during alternative development, and after release of the Draft EIS.

ADDRESSES: Please send written comments to District Ranger, Ketchikan-Misty Fiords Ranger District, 3031 Tongass Avenue, Ketchikan, AK 99901.

FOR FURTHER INFORMATION CONTACT: Jerry Ingersoll, District Ranger, (907) 228-4100 or Eric Trimble, Project Leader, (907) 228-4127.

SUPPLEMENTARY INFORMATION: The proposed timber sale is located within Tongass Forest Plan Value Comparison Units 7490 and 8642, Revillagigedo Island, Alaska. Approximately 80% of proposed sale units are located within the North Revilla Inventoried Roadless Area. The Forest Service is reevaluating its Roadless Area Conservation Rule (Roadless Rule) and is currently enjoined from implementing all aspects of the Roadless Rule by the U.S. District Court, District of Idaho. The Ketchikan-Misty Fiords Ranger District is preparing the Slide Ridge EIS to be consistent with the Forest Service Transportation; Final Administrative Policy (Roads Rule). Among other direction, the Roads Rule requires that an area-specific roads analysis to be completed and a determination of need for amendment or revision of the Forest Plan be made if any roads are to be constructed or reconstructed in inventoried roadless or contiguous unroaded areas, until a forest-wide roads analysis has been completed (FSM 7712.16(c)). This analysis and determination will be made for the Slide Ridge Timber Sale project. In Sierra Club v. Lyons (J00-0009 (CV)), the U.S. District Court, District of Alaska enjoined the Tongass National Forest from taking any action to change the wilderness character of any eligible roadless area until a supplemental environmental impact statement (SEIS) has been completed. The SEIS is currently being prepared. Planning for the Slide Ridge Timber Sale Project will continue simultaneously and in coordination with the SEIS. The repercussions of delaying the project planning process regarding road building and timber harvest, even for a relatively short period, can have a significant effect on the amount of timber available for sale in the next year. The Slide Ridge Timber Sale Project is consistent with the 1977 Tongass Land Management Plan.

Public participation has been and will continue to be an integral component of the analysis process. The Forest Service will be seeking additional information, comments, and assistance from Federal, State, local and tribal agencies, individuals and organizations that may be interested in, or affected by, proposed activities. The scoping process includes: (1) Identification of potential issues; (2) Identification of issues to be analyzed in depth; and (3) Suggestions for possible alternatives. Both written and verbal comments will be accepted during this process. A series of public meetings will be scheduled and a scoping package sent to interested individuals and/or organizations. Scoping began in January 2001 with a notice in the Ketchikan Daily News followed by a public mailing. At that time, we had anticipated preparing an Environmental Assessment (EA) for this project. As a result of the initial scoping we have decided to prepare an Environmental Impact Statement (EIS) that resulted in the publication of this NOI. Scoping will continue following this publication and through the preparation of the Draft EIS. Based on the results of scoping and the resource conditions within the project area, alternatives including a “no action” alternative will be developed for the Draft EIS. The Draft EIS is scheduled to be filed with the Environmental Protection Agency (EPA) in June 2002. The Final EIS is anticipated by January 2003. The comment period on the Draft EIS will be a minimum of 45 days from the date the Environmental Protection Agency (EPA) publishes the notice of availability (NOA) in the Federal Register.

The Forest Service believes that it is important to give reviewers notice of several court rulings related to public participation in the environmental review process. First, reviewers of Draft EIS must structure their participation in the environmental review of the proposal so that it is meaningful and alerts an agency to the reviewer's position and contentions. Vermont Yankee Nuclear Power Corp. v. NRDC, 435 U.S. 519, 553, (1978). Also environmental objections that could have been raised at the Draft EIS stage may be waived or dismissed by the courts. City of Angoon v. Hodel, 803 F.2nd 1016, 1022 (9th Cir. 1986) and Wisconsin Heritages, Inc. v. Harris, 490 F. Supp. 1334, 1338 (E.D. Wis 1980). Because of these court rulings, it is very important that those interested in this proposed action participate by the close of the 45-day comment period so that substantive comments and objections are received by the Forest Service at a time when it can meaningfully consider and respond to them in the Final EIS.

To assist the Forest Service in identifying and considering issues and concerns of the proposed action, comments during scoping and on the Draft EIS should be as specific as possible. It is also helpful if comments refer to specific pages or chapters of the Draft EIS. Comments may also address the adequacy of the Draft EIS or the merits of the alternatives formulated and discussed in the statement. Reviewers may wish to refer to the Council on Environmental Quality (CEQ) Regulations for implementing the procedural provisions of the National Environmental Policy Act (NEPA) at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR parts 215. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

Permits required for implementation may include the following:

1. U.S. Army Corp of Engineers

—Approval of discharge of dredged or fill material into the waters of the United States under section 404 of the Clean Water Act;

2. Environmental Protection Agency

—National Pollutant Discharge Elimination System (402) Permit;

3. State of Alaska, Department of Environmental Conservation

—Solid Waste Disposal Permit;

—Certification of Compliance with Alaska Water Quality Standards

Thomas Puchlerz, Forest Supervisor, Tongass National Forest, Federal Building, Ketchikan, Alaska 99901, is the responsible official. The responsible official will consider the comments, response, disclosure of environmental consequences, and applicable laws, regulations, and policies in making the decision and stating the rationale in the Record of Decision.

Dated: November 13, 2001.
Thomas Puchlerz,
Forest Supervisor.

[FR Doc. 01-29215 Filed 11-21-01; 8:45 am]

BILLING CODE 3410-11-M